DEPARTMENT OF THE INTERIOR

National Park Service

Notice of Intent to Repatriate a Cultural Item: National Guard Bureau, Texas Army National Guard (Texas Military Forces), Austin, TX

AGENCY: National Park Service, Interior.

ACTION: Notice.

SUMMARY: Pursuant to the Native American Graves Protection and Repatriation Act (NAGPRA), the National Guard Bureau, Texas Military Forces (TXMF, which is the state agency that, per 25 USC § 3001(8), has “control” of the cultural item) and the Texas Historical Commission (the state agency that has guardianship of the cultural item) determined that one unassociated funerary object in the collections of the TXMF, described below in Information about cultural items, is culturally affiliated with the Caddo Nation of Oklahoma. The cultural item is in the physical custody of the Texas Archaeological Research Laboratory at the University of Texas at Austin.

The National Park Service publishes this notice on behalf of the TXMF as part of the National Park Service's administrative responsibilities under NAGPRA. The TXMF is solely responsible for information and determinations stated in this notice. The National Park Service is not responsible for the TXMF's determinations.

Information about NAGPRA is available online at http://www.cr.nps.gov/nagpra.

DATES: Repatriation of the cultural item to the Caddo Nation of Oklahoma may proceed after July 1, 2005, if no additional claimants come forward. Representatives of any other Indian tribe that believes itself to be culturally affiliated with the cultural item should contact the TXMF before July 1, 2005.

SUPPLEMENTARY INFORMATION: Authority. 25 U.S.C. 3001 et seq. and 43 CFR Part 10.

Contact.Contact Lieutenant Colonel Patrick T Dye, Environmental Program Manager, Texas Military Forces, P.O. Box 5218 (JFTX-G4-EV), Austin, TX 78763-5218, telephone (512) 782-6813, regarding determinations stated in this notice or to claim the cultural item described in this notice.

Consultation. TXMF officials and the University of Texas at San Antonio archeologists identified the cultural item and assessed the cultural affiliation of the cultural item at the request of the Caddo Nation of Oklahoma, and in consultation with representatives of the Caddo Nation of Oklahoma.

Information about cultural items. In 2000, archeologists with the Center for Archaeological Research, University of Texas at San Antonio removed one ceramic vessel during test excavations at site 41LR152, at the TXMF's Camp Maxey facility in Lamar County, TX. The vessel was collected from level seven of excavation unit two, 70 centimeters below surface, and was in an upright position with no associated artifacts. In the report Camp Maxey III Archaeological Testing of 23 Prehistoric Sites, Lamar County, Texas (Mahoney et al 2001), the vessel is described as a “fine grog-tempered plain jar, of undetermined type, with a direct rim and a flat lip, and a flat base.” Excavations around the vessel did not indicate any subsurface disturbances that would indicate a burial feature. However, an archeological consultant hired by the TXMF suggested that due to the condition of the vessel, and its depth and vertical orientation, the vessel may have been associated with a burial. TXMF agreed with the consultant and the conclusion that the vessel meets the definition of an “unassociated funerary object” as defined at 25 U.S.C. 3001 (3)(B).The site from which the cultural item was removed (Camp Maxey) is State and not Federal property.

During a meeting on April 10, 2003, the Caddo NAGPRA representative requested information regarding the ceramic vessel that was removed from site 41LR152 at the TXMF Camp Maxey facility, and which he believed might meet the definition of an unassociated funerary object.Intact ceramic vessels are typically encountered in association with burials and are rarely discovered in other contexts. The excavation report notes that, “the recovery of an intact native ceramic vessel, with a terminal depth of 70cm bs, is a definite anomaly” but concedes that depending upon how long ago the vessel was deposited, “it is feasible to assume that the intrusive activity may no longer be discernable in the stratigraphy” (Mahoney et al 2001). The TXMF consultant suggested that the vessel may have been associated with a human burial, but that conditions at the site were not conducive to the preservation of human remains.

Radiocarbon dates and the absence of stratigraphic evidence for a pit indicate that the vessel is associated with the Woodland period. The archeological record in northeast Texas provides evidence for cultural continuity between the Woodland period and subsequent Caddo periods. Williams Plain pottery, which first appeared during the Woodland period, has been discovered in association with later Caddoan pottery; and in the Red River Basin, the production of Williams Plain pottery appears to have continued until the end of the Middle Caddoan period, circa A.D. 1300. This shared ceramic tradition suggests cultural continuity between the Woodland period inhabitants of the Red River Basin and later Caddo occupants of the basin.

Determination. Under 25 U.S.C. 3005, TXMF officials determined that the one ceramic vessel described above is reasonably believed to have been placed with or near individual human remains at the time of death or later as part of the death rite or ceremony and is believed, by a preponderance of the evidence, to have been removed from a specific burial site of a Native American individual.

TXMF officials determined that the unassociated funerary object is culturally affiliated with the Caddo Nation of Oklahoma.

Notification. The TXMF is responsible for sending a copy of this notice to the Caddo Nation of Oklahoma.

Dated: May 20, 2005.
Paul Hoffman,
Deputy Assistant Secretary, Fish and Wildlife and Parks.

[FR Doc. 05-10797 Filed 5-31-05; 8:45 am]

BILLING CODE 4312-50-S